NUCLEAR REGULATORY COMMISSION

[Docket No. 50-443-LA2 ASLBP No. 17-953-02-LA-BD01]

Nextera Energy Seabrook LLC; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

Nextera Energy Seabrook LLC

(Seabrook Station, Unit 1)

This proceeding involves a license amendment application submitted by NextEra Energy Seabrook LLC, for Seabrook Station, Unit 1, located in Seabrook, New Hampshire. In response to a notice filed in the Federal Register, see 82 FR 9,601 (Feb. 7, 2017), the C-10 Research and Education Foundation, Inc. filed a petition to intervene on April 10, 2017.

The Board is comprised of the following Administrative Judges:

Ronald M. Spritzer, Chairman, Atomic Safety and Licensing Board Panel, U.S. Nuclear Regulatory Commission, Washington, DC 20555-0001.

Nicholas G. Trikouros, Atomic Safety and Licensing Board Panel, U.S. Nuclear Regulatory Commission, Washington, DC 20555-0001.

Dr. Sekazi K. Mtingwa, Atomic Safety and Licensing Board Panel, U.S. Nuclear Regulatory Commission, Washington, DC 20555-0001.

All correspondence, documents, and other materials shall be filed in accordance with the NRC E-Filing rule. See 10 CFR 2.302.

Dated: April 17, 2017.
E. Roy Hawkens,
Chief Administrative Judge, Atomic Safety and Licensing Board Panel, Rockville, Maryland.

[FR Doc. 2017-08120 Filed 4-20-17; 8:45 am]

BILLING CODE 7590-01-P